DEPARTMENT OF COMMERCE

National Oceanic and Atmospheric Administration

Notice of Proposed Revision to Guidelines for Coastal and Estuarine Land Conservation Program

AGENCY: National Ocean Service (NOS), National Oceanic and Atmospheric Administration (NOAA), Department of Commerce (Commerce).

ACTION: Request for comments for proposed revision to program guidelines.

SUMMARY: Notice is hereby given that NOAA is planning to update and revise its Guidelines for the Coastal and Estuarine Land Conservation Program (CELCP) after five years implementing the program under these guidelines. This notice invites interested parties to provide comments or suggestions to NOAA for consideration in updating the CELCP guidelines.

DATES: Comments on the CELCP guidelines are requested by June 9, 2008, 2008 for consideration.

ADDRESSES: Please address comments to Roxanne Thomas, by mail at: Office of Ocean and Coastal Resource Management, NOAA, 1305 East-West Hwy., N/ORM7, Silver Spring, MD 20910; or by e-mail to Roxanne.Thornas@noaa.gov, Subject: CELCP Guidelines.

FOR FURTHER INFORMATION CONTACT: Roxanne Thomas or Elaine Vaudreuil, NOAA's Ocean Service, Office of Ocean and Coastal Resource Management at Roxanne.Thomas@noaa.gov, 301-713-3155 ext. 119 or Elaine.Vaudreui1@noaa.gov, 301-713-3155 ext. 103.

SUPPLEMENTARY INFORMATION: Background: The CELCP was established in 2002 to fund acquisition of land to protect important coastal and estuarine areas that have significant conservation, recreation, ecological, historical or aesthetic values, or that are threatened by conversion from their natural or recreational state to other uses. Priority is given to lands that can be effectively managed and protected and that have significant ecological value. Conservation projects should advance the goals, objectives or implementation of federal, regional, state or local coastal management plans.

The CELCP was created by Public Law 107-77 and codified at 16 U.S.C. 1456d. NOAA issued final guidelines for the program in June 2003. Since the program's creation, CELCP has administered more than 150 grants for land conservation projects in 26 out of 34 eligible coastal states and territories and has run two national funding competitions under the guidelines.

Based on its experience implementing this program, NOAA plans to update the CELCP program guidelines to clarify certain provisions and consider other changes. The revisions will not change the CELCP process, but will clarify certain provisions and consider other improvements. The current Final Guidelines for the CELCP can be found on the Internet at http://www.coastalmanagement.noaa.gov/land/media/CELCPfinalo2Guidelines.pdf or can be requested either by phone at 301-713-3155 ext. 119, or by e-mail to Roxanne.Thomas@noaa.gov. Any proposed changes to the CELCP guidelines would be published in the Federal Register, with an opportunity for public comment, following compliance with any relevant statutes and executive orders.

Dated: April 2, 2008.
John H. Dunnigan,
Assistant Administrator, Ocean Services and Coastal Zone Management, National Oceanic and Atmospheric Administration.

[FR Doc. E8-7399 Filed 4-8-08; 8:45 am]

BILLING CODE 3510-22-M